DEPARTMENT OF LABOR

Employment and Training Administration

Notice of Availability of Funds and Funding Opportunity Announcement for: Summer Jobs and Beyond: Career Pathways for Youth (CPY)

AGENCY: Employment and Training Administration, Labor.

ACTION: Funding Opportunity Announcement (FOA).

Funding Opportunity Number: FOA-ETA-16-08.

SUMMARY: The Employment and Training Administration (ETA), U.S. Department of Labor, announces the availability of up to $20,000,000 in grant funds authorized by section 169(c) of the Workforce Innovation and Opportunity Act (WIOA), Public Law 113-128, Dislocated Worker Demonstration Projects, and the Consolidated Appropriation Act of 2016, Public Law 114-113 for the pilot grant program, Summer Jobs and Beyond: Career Pathways for Youth (CPY). ETA plans to award approximately 10-11 grants of approximately $2,000,000 each to Local Workforce Development Boards (LWDB). This program is designed to provide employment-related services to eligible youth who are new entrants to the workforce, including those with limited current or past work experience.

The program will provide youth with work experience opportunities, including summer and year‐round part‐time job opportunities for in-school youth and employment and work experience opportunities throughout the year for out-of-school youth, and exposure to career pathways in in‐demand job sectors. The grants will require partnerships between LWDBs and local summer employment programs, employers, Local Education Agencies (LEAs), and re‐engagement centers. Other community partners may provide services to eligible youth that assist in the development of work experience and entry into career pathways.

The complete FOA and any subsequent FOA amendments in connection with this solicitation are described in further detail on ETA's Web site at http://www.doleta.gov/grants/ or http://www.grants.gov. The Web sites provide application information, eligibility requirements, review and selection procedures, and other program requirements governing this solicitation.

DATES: The closing date for receipt of applications under this Announcement is March 25, 2016. We must receive applications no later than 4:00:00 p.m. Eastern Time.

FOR FURTHER INFORMATION CONTACT: Janice Sheelor, Grants Management Specialist, Office of Grants Management, at (202) 693-3538. Applicants should email all technical questions to sheelor.janice@dol.gov and reference the Funding Opportunity Number listed in this notice.

The Grant Officer for this FOA is Latifa Jeter.

Signed February 9, 2016 in Washington, DC.
Eric D. Luetkenhaus,
Grant Officer/Division Chief, Employment and Training Administration.

[FR Doc. 2016-03336 Filed 2-17-16; 8:45 am]

BILLING CODE 4510-FT-P